DEPARTMENT OF STATE

[Public Notice 5766]

Shipping Coordinating Committee Notice of Meeting

The Shipping Coordinating Committee (SHC) will conduct an open meeting at 9:30 a.m. on Wednesday, May 30, 2007, in Room 2415 of the United States Coast Guard Headquarters Building, 2100 2nd Street SW., Washington, DC, 20593-0001. The primary purpose of the meeting is to prepare for the 15th Session of the International Maritime Organization (IMO) Sub-Committee on Flag State Implementation to be held at the Royal Horticultural Halls and Conference Centre in London, England from June 4th to 8th.

The primary matters to be considered include:

—Responsibilities of Governments and measures to encourage flag State compliance;

—Port State Control (PSC) Guidelines on seafarers' working hours;

—Harmonization of port State control activities;

—Comprehensive analysis of difficulties encountered in the implementation of IMO instruments;

—Mandatory reports under International Convention for the Prevention of Pollution from Ships, 1973, as modified by the Protocol of 1978 (MARPOL 73/78);

—Casualty statistics and investigations;

—Review of the Code for the investigation of marine casualties and incidents;

—Review of the Survey Guidelines under the Harmonized System of Survey and Certification (HSSC)—(resolution A.948(23));

—Development of guidelines on port State control under the 2004 Ballast Water Management (BWM) Convention;

—Port reception facilities-related issues;

—Illegal, unregulated and unreported (IUU) fishing and implementation of resolution A.925(22);

—Consideration of International Association of Classification Societies (IACS) unified interpretations;

Members of the public may attend this meeting up to the seating capacity of the room. To facilitate the building security process, those who plan to attend should call or send an e-mail two days before the meeting to Emanuel.J.TerminellaJr@uscg.mil. Interested persons may seek information by writing to Mr. E.J. Terminella, Commandant (CG-3PCV), U.S. Coast Guard Headquarters, 2100 Second Street SW., Room 1116, Washington, DC 20593-0001 by calling (202) 372-1239, or by e-mail.

Dated: May 10, 2007.
Michael E. Tousley,
Executive Secretary, Shipping Coordinating Committee, Department of State.

[FR Doc. E7-9931 Filed 5-22-07; 8:45 am]

BILLING CODE 4710-09-P